DEPARTMENT OF COMMERCE

Foreign-Trade Zones Board

[Docket 57-2010]

Foreign-Trade Zone 148—Knoxville, TN, Application for Subzone Toho, Tenax America, Inc., Extension of Comment Period

The comment period for the application for subzone status at the Toho Tenax America, Inc., facility in Rockwood, Tennessee, submitted by the Industrial Development Board of Blount County, Tennessee (75 FR 61696, 10/6/2010), is being extended to January 20, 2011, to allow interested parties additional time in which to comment. Rebuttal comments may be submitted during the subsequent 15-day period, until February 4, 2011. Submissions (original and one electronic copy) shall be addressed to the Board's Executive Secretary at: Foreign-Trade Zones Board, U.S. Department of Commerce, Room 2111, 1401 Constitution Ave., NW., Washington, DC 20230.

For further information, contact Diane Finver at Diane.Finver@trade.gov or (202) 482-1367.

Dated: November 22, 2010.
Andrew McGilvray,
Executive Secretary.

[FR Doc. 2010-30132 Filed 11-29-10; 8:45 am]

BILLING CODE 3510-DS-P